DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains and associated funerary objects in the possession of the American Museum of Natural History, New York, NY. The human remains and associated funerary objects were collected from Bronx County, Kings County, New York County, Queens County, and Westchester County, NY.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by American Museum of Natural History professional staff in consultation with representatives of the Delaware Nation, Oklahoma; Delaware Tribe of Indians, Oklahoma (now part of the Cherokee Nation, Oklahoma); and Stockbridge Munsee Community, Wisconsin.

In 1898, human remains representing a minimum of seven individuals were collected by Raymond M. Harrington from Croton Neck, Croton-on-Hudson, Westchester County, NY. In 1899, the human remains were acquired by the museum as a gift from William R. Warren. No known individuals were identified. The 20 associated funerary objects are 2 oyster shells, 14 paintstone fragments, 3 chert pebbles, and 1 clay smoking pipe, which dates to the late 17th or early 18th century and is apparently of British manufacture.

The individuals have been identified as Native American based on the presence of items of Native American manufacture. Flexed burials and the relative scarcity of funerary objects are consistent with Late Woodland period burial practices. Geographic location is consistent with the traditional and postcontact territory of the “Kitchawonck,” a Munsee Delaware Indian group.

In 1899, human remains representing a minimum of four individuals were collected by M. Raymond Harrington from the south shore of Le Roy Bay, Pelham Bay Park, Bronx County, NY, during an expedition sponsored by the American Museum of Natural History. No known individuals were identified. The 14 associated funerary objects are 4 shell pieces, 5 stone chips, 2 pottery sherds, 1 stone scraper, 1 mica ornament, and 1 piece of elk bone.

The individuals have been identified as Native American based on the presence of a large Native American habitation site and the presence of items of Native American manufacture. The human remains recovered from the Le Roy Bay site are considered to date to the Late Woodland period (after A.D. 1100). Geographic location is consistent with the traditional and post-contact territory of the Munsee Delaware Indian groups.

In 1899, human remains representing a minimum of one individual were collected by M. Raymond Harrington from a shell-filled pit on the Ryder property, Avenue U vicinity, Marine Park, Kings County, NY, during an American Museum of Natural History expedition. The American Museum of Natural History acquired the human remains and associated funerary objects later that same year as part of this expedition. No known individual was identified. The approximately 192 associated funerary objects are 1 pipe bowl, 10 shells, 2 bone tools, 10 pottery fragments, 12 stone chips, 1 piece of crab claw, 6 turtle shell fragments, and a minimum of 150 animal bones.

The individual has been identified as Native American based on the mode of burial and the presence of items of Native American manufacture. Based on the literature and the burial context, the human remains are considered to date to the Late Woodland period (after A.D. 1100). Geographic location is consistent with the traditional and postcontact territory of the Munsee Delaware Indian groups.

Possibly in 1900, human remains representing a minimum of one individual were collected by M. Raymond Harrington, from a camp burial site at Avenue U and Ryder's Pond, Marine Park, Kings County, NY. The museum acquired the human remains in 1900 as a gift from Mr. Putnam, who supported Mr. Harrington's expeditions. No known individual was identified. The 111 associated funerary objects are 1 pipe stem; 2 sinkers; 32 animal, bird, fish, and turtle bones; 5 stone tools; 1 bone tool; and 70 hickory shells and charcoal fragments.

The individual has been identified as Native American based on presence of a Native American occupation site and the presence of items of Native American manufacture. Based on the literature and the burial context, the human remains are considered to date to the Late Woodland period (after A.D. 1100). Geographic location is consistent with the traditional and postcontact territory of the Munsee Delaware Indian groups.

In 1907, human remains representing a minimum of one individual were collected by Reginald P. Bolton and W.L. Calver from a shell pit in Corbet's Garden, 160 feet west of the west side of Cooper Street, 220 feet south of Hawthorne Street, Inwood, New York County, NY. The American Museum of Natural History purchased the human remains and associated funerary objects from Mr. Bolton in 1910. No known individual was identified. The 194 associated funerary objects are 77 shell fragments, 32 pottery fragments, and 85 sturgeon scale fragments.

The individual has been identified as Native American based on the mode of burial and the presence of items of Native American manufacture. Based on the literature and the burial context, the human remains are considered to date to the Late Woodland period (after A.D. 1100). Geographic location is consistent with the traditional and postcontact territory of the Munsee Delaware Indian groups.

In 1907 and 1908, human remains representing a minimum of 14 individuals were collected by Reginald P. Bolton and W.L. Carver from Seaman Avenue, Inwood, New York County, NY. The human remains were purchased by the museum in 1910. No known individuals were identified. The 35 associated funerary objects are 32 oyster shells, 1 stone, 1 pottery fragment, and 1 stone point.

The individuals have been identified as Native American based on the presence of a native shell refuse heap and the presence of items of Native American manufacture. The site from which the human remains were collected has been identified as a Late Woodland to early contact period site. Based on the literature, the burial context of the human remains, and the lack of associated items from the Historic period, the human remains are considered to date to the Late Woodland period (after A.D. 1100). Geographic location is consistent with the traditional and postcontact territory of the Munsee Delaware Indian groups.

In 1939, human remains representing a minimum of two individuals were collected by Ralph Solecki from a shell pit at the head of Hawtree Creek, an arm of Jamaica Bay, Aquaduct, Queens County, NY. The American Museum of Natural History received the human remains from Mr. Solecki as a gift in 1947. No known individuals were identified. The two associated funerary objects are one oyster shell and one pottery fragment.

The individuals have been identified as Native American based on the mode of burial and the presence of an item of Native American manufacture. Based on the literature and the burial context of the human remains, the human remains are considered to date to the Late Woodland period (after A.D. 1100). Geographic location is consistent with the traditional and postcontact territory of the Munsee Delaware Indian groups.

In the late 1950s, human remains representing a minimum of 29 individuals were collected by Mr. E.J. Kaeser from an ossuary at the Archery Range site, Pelham Bay Park, Bronx County, NY. The American Museum of Natural History received the human remains from Mr. Kaeser as a gift in 1967. No known individuals were identified. No associated funerary objects are present.

The individuals have been identified as Native American based on the mode of burial and the presence of items of Native American manufacture that are listed in the field notes but which are not part of the museum's collection. Based on the literature and the burial context of the human remains in an ossuary mixed with shell midden located on a knoll overlooking Pelham Bay, the human remains are considered to date to the Late Woodland period (after A.D. 1100). Geographic location is consistent with the traditional and postcontact territory of the Munsee Delaware Indian groups.

Officials of the American Museum of Natural History have determined that, pursuant to 25 U.S.C. 3001 (9-10), the human remains described above represent the physical remains of a minimum of 59 individuals of Native American ancestry. Officials of the American Museum of Natural History have also determined that, pursuant to 25 U.S.C. 3001 (3)(A), the approximately 568 objects described above are reasonably believed to have been placed with or near individual human remains at the time of death or later as part of the death rite or ceremony. Lastly, officials of the American Museum of Natural History have determined that, pursuant to 25 U.S.C. 3001 (2), there is a relationship of shared group identity that can be reasonably traced between the Native American human remains and associated funerary objects and the Cherokee Nation, Oklahoma; Delaware Nation, Oklahoma; and Stockbridge-Munsee Community, Wisconsin. A cultural affiliation determination with the Delaware Tribe of Indians, Oklahoma was made prior to the tribe's change in status.

Representatives of any other Indian tribe that believes itself to be culturally affiliated with the human remains and associated funerary objects should contact Nell Murphy, Director of Cultural Resources, American Museum of Natural History, Central Park West at 79th Street, New York, NY 10024-5192,telephone (212) 769-5837, before January 29, 2007. Repatriation of the human remains and associated funerary objects to the Cherokee Nation, Oklahoma; Delaware Nation, Oklahoma; and Stockbridge-Munsee Community, Wisconsin may proceed after that date if no additional claimants come forward.

The American Museum of Natural History is responsible for notifying the Cherokee Nation, Oklahoma; Delaware Nation, Oklahoma; and Stockbridge-Munsee Community, Wisconsin that this notice has been published.

Dated: November 24, 2006.
Sherry Hutt, Manager
National NAGPRA Program

[FR Doc. E6-22343 Filed 12-28-06; 8:45 am]

BILLING CODE 4312-50-S